ENVIRONMENTAL PROTECTION AGENCY

40 CFR Part 98

Mandatory Greenhouse Gas Reporting

CFR Correction

In Title 40 of the Code of Federal Regulations, Parts 96 to 99, revised as of July 1, 2012, on page 768, in § 98.226, in paragraph (n) introductory text, the last sentence is removed.

[FR Doc. 2013-09263 Filed 4-17-13; 8:45 am]

BILLING CODE 1505-01-D